DEPARTMENT OF COMMERCE

International Trade Administration

[A-580-887]

Carbon and Alloy Steel Cut-to-Length Plate From the Republic of Korea: Final Results of Antidumping Duty Administrative Review; 2022-2023

AGENCY: Enforcement and Compliance, International Trade Administration, U.S. Department of Commerce.

SUMMARY: The U.S. Department of Commerce (Commerce) determines that the POSCO single entity, the sole exporter subject to this administrative review, did not make sales of certain carbon and alloy steel cut-to-length plate (CTL plate) from the Republic of Korea (Korea) at less than normal value during the period of review (POR) May 1, 2022, through April 30, 2023.

DATES: Applicable February 21, 2025.

FOR FURTHER INFORMATION CONTACT: Jaron Moore or William Horn, AD/CVD Operations, Office VIII, Enforcement and Compliance, International Trade Administration, U.S. Department of Commerce, 1401 Constitution Avenue NW, Washington, DC 20230; telephone: (202) 482-3640 or (202) 482-4868, respectively.

SUPPLEMENTARY INFORMATION:

Background

On June 6, 2024, Commerce published the preliminary results in this administrative review in the Federal Register.¹ On July 15 through 19, 2024, we conducted verification at POSCO's ² corporate offices in Seoul, Korea.³ Although we provided interested parties with an opportunity to comment on the Preliminary Results, no interested parties submitted comments. Accordingly, there are no comments for Commerce to consider or address in these final results, and thus, there is no decision memorandum accompanying this notice. On December 9, 2024, Commerce tolled the deadline to issue the final results in this administrative review by 90 days.⁴ Accordingly, the deadline for these final results is March 10, 2025.

¹ See Certain Carbon and Alloy Steel Cut-to-Length Plate From the Republic of Korea: Preliminary Results of Antidumping Duty Administrative Review; 2022-2023, 89 FR 48389 (June 6, 2024) (Preliminary Results), and accompanying Preliminary Decision Memorandum (PDM).

² Commerce continues to find that POSCO, POSCO International Corporation, POSCO MS, and certain distributors and service centers (i.e., Taechang Steel Co., Ltd. and Winsteel Co., Ltd.) are affiliated pursuant to section 771(33)(E) of the Act, and further that these companies should be treated as a single entity (collectively, POSCO or the POSCO single entity) pursuant to 19 CFR 351.401(f). See Preliminary Results PDM at 1.

³ See Memorandum, “Verification of the Sales Response of POSCO in the Antidumping Review of Certain Carbon and Alloy Steel Cut to Length Plate from the Republic of Korea,” dated August 23, 2024 (POSCO Verification Report).

⁴ See Memorandum, “Tolling of Deadlines for Antidumping and Countervailing Duty Proceedings,” dated December 9, 2024.

Commerce conducted this review in accordance with section 751(a) of the Tariff Act of 1930, as amended (the Act).

Scope of the Order ⁵

⁵ See Certain Carbon and Alloy Steel Cut-to-Length Plate from Austria, Belgium, France, the Federal Republic of Germany, Italy, Japan, the Republic of Korea, and Taiwan: Amended Final Affirmative Antidumping Determinations for France, the Federal Republic of Germany, the Republic of Korea and Taiwan, and Antidumping Duty Orders, 82 FR 24096 (May 25, 2017) (Order).

The product covered by the Order is CTL plate from Korea. The product is currently classified under the Harmonized Tariff Schedule of the United States (HTSUS) subheadings 7208.40.3030, 7208.40.3060, 7208.51.0030, 7208.51.0045, 7208.51.0060, 7208.52.0000, 7211.13.0000, 7211.14.0030, 7211.14.0045, 7225.40.1110, 7225.40.1180, 7225.40.3005, 7225.40.3050, 7226.20.0000, and 7226.91.5000.

The products subject to the order may also enter under the following HTSUS subheadings: 7208.40.6060, 7208.53.0000, 7208.90.0000, 7210.70.3000, 7210.90.9000, 7211.19.1500, 7211.19.2000, 7211.19.4500, 7211.19.6000, 7211.19.7590, 7211.90.0000, 7212.40.1000, 7212.40.5000, 7212.50.0000, 7214.10.000, 7214.30.0010, 7214.30.0080, 7214.91.0015, 7214.91.0060, 7214.91.0090, 7225.11.0000, 7225.19.0000, 7225.40.5110, 7225.40.5130, 7225.40.5160, 7225.40.7000, 7225.99.0010, 7225.99.0090, 7206.11.1000, 7226.11.9060, 7229.19.1000, 7226.19.9000, 7226.91.0500, 7226.91.1530, 7226.91.1560, 7226.91.2530, 7226.91.2560, 7226.91.7000, 7226.91.8000, and 7226.99.0180. The HTSUS subheadings are provided for convenience and customs purposes only; the written product description of the scope of the order is dispositive.

For a complete description of the scope of the Order, see the Preliminary Results.⁶

⁶ See Preliminary Results PDM at 3.

Changes From the Preliminary Results

We made certain changes to the preliminary margin calculations as a result of verification findings. For a detailed description of these changes, see the POSCO Verification Report and POSCO Final Calculation Memorandum.⁷

⁷ See POSCO Verification Report at 2-3; and Memorandum, “Final Results Calculation for POSCO in the Antidumping Duty Administrative Review of Certain Carbon and Alloy Steel Cut to Length Plate from the Republic of Korea,” dated concurrently with this notice (POSCO Final Calculation Memorandum).

Final Results of the Review

For these final results, we determine that the following weighted-average dumping margin exists for the period May 1, 2022, through April 30, 2023:

Producer or exporter | Weighted-average dumping margin (percent)
POSCO single entity | 0.00

Disclosure

We intend to disclose to interested parties in this proceeding the calculations performed in connection with the final results of review within five days of any public announcement or, if there is no public announcement, within five days of the date of publication of the notice of the final results in the Federal Register, in accordance with 19 CFR 351.224(b).

Assessment Rates

Pursuant to section 751(a)(2)(C) of the Act, and 19 CFR 351.212(b)(1), Commerce has determined, and U.S. Customs and Border Protection (CBP) shall assess, antidumping duties on all appropriate entries covered by this review. If a respondent's weighted-average dumping margin is either zero or de minimis within the meaning of 19 CFR 351.106(c)(1), we will instruct CBP to liquidate the appropriate entries without regard to antidumping duties.⁸ Accordingly, because the final weighted-average dumping margin for the POSCO single entity in this review is zero percent, we will instruct CBP to liquidate the appropriate entries without regard to antidumping duties.

⁸ See Antidumping Proceedings: Calculation of the Weighted-Average Dumping Margin and Assessment Rate in Certain Antidumping Proceedings: Final Modification, 77 FR 8101, 8102 (February 14, 2012).

Commerce's “automatic assessment” will apply to entries of subject merchandise during the POR produced by the POSCO single entity for which the company did not know that the merchandise it sold to an intermediary (e.g., a reseller, trading company, or exporter) was destined for the United States. In such instances, we will instruct CBP to liquidate such entries at the all-others rate if there is no rate for the intermediate company(ies) involved in the transaction.⁹

⁹ See Antidumping and Countervailing Duty Proceedings: Assessment of Antidumping Duties, 68 FR 23954 (May 6, 2023).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective upon publication in the Federal Register of these final results of administrative review for all shipments of the subject merchandise entered, or withdrawn from warehouse, for consumption on or after the publication date, as provided by section 751(a)(2)(C) of the Act: (1) the cash deposit rate for the POSCO single entity will be equal to the weighted-average dumping margin established in these final results of this administrative review (i.e., zero percent); (2) for merchandise exported by companies not covered in this review but covered in a prior completed segment of this proceeding, the cash deposit rate will continue to be the company-specific rate published in the completed segment for the most recent period; (3) if the exporter is not a firm covered in this review, a prior review, or the less-than-fair-value investigation, but the producer is, then the cash deposit rate will be the cash deposit rate established for the most recently completed segment of the proceeding for the producer of the subject merchandise; and (4) the cash deposit rate for all other producers and exporters will continue to be the all-others rate (i.e., 7.10 percent).¹⁰

¹⁰ See Order.

These cash deposit requirements, when imposed, shall remain in effect until further notice.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order (APO)

This notice serves as the only reminder to parties subject to an APO of their responsibility concerning the disposition of proprietary information disclosed under APO in accordance with 19 CFR 351.305(a)(3), which continues to govern business proprietary information in this segment of the proceeding. Timely written notification of the return or destruction of APO materials or conversion to judicial protective order is hereby requested. Failure to comply with the regulations and terms of an APO is a sanctionable violation.

Notification to Interested Parties

This notice is being issued and published in accordance with sections 751(a)(1) and 777(i)(1) of the Act, and 19 CFR 351.221(b)(5).

Dated: February 13, 2025.
Christopher Abbott,
Deputy Assistant Secretary for Policy and Negotiations, performing the non-exclusive functions and duties of the Assistant Secretary for Enforcement and Compliance.

[FR Doc. 2025-02892 Filed 2-20-25; 8:45 am]

BILLING CODE 3510-DS-P